FEDERAL MARITIME COMMISSION

Sunshine Act Meetings; Correction

AGENCY: Federal Maritime Commission.

ACTION: Notice; correction.

SUMMARY: The Federal Maritime Commission published a document in the Federal Register of January 19, 2023, concerning the Sunshine Act Meetings for our January 25, 2023, Commission Meeting. The document contained an incorrect sentence under the status section.

FOR FURTHER INFORMATION CONTACT: William Cody, 202-523-5725.

SUPPLEMENTARY INFORMATION:

Correction

In the Federal Register of January 19, 2023, in FR Doc. 2023-01086, on page 3413, the last sentence of the “Status” section reads: “Pre-registered attendees will be notified of the required health and safety protocols before the meeting and no later than Tuesday, January 25, 2023.” Please delete this line in its entirety. There is no replacement sentence.

Dated: January 19, 2023.
William Cody,
Secretary.

[FR Doc. 2023-01366 Filed 1-19-23; 4:15 pm]

BILLING CODE 6730-02-P